DEPARTMENT OF COMMERCE

International Trade Administration

[C-570-177]

Certain Low Speed Personal Transportation Vehicles From the People's Republic of China: Postponement of Preliminary Determination in the Countervailing Duty Investigation

AGENCY: Enforcement and Compliance, International Trade Administration, Department of Commerce.

DATES: Applicable September 10, 2024.

FOR FURTHER INFORMATION CONTACT: Mark Hoadley at (202) 482-3148, AD/CVD Operations, OVII, Enforcement and Compliance, International Trade Administration, U.S. Department of Commerce, 1401 Constitution Avenue NW, Washington, DC 20230.

SUPPLEMENTARY INFORMATION:

Background

On July 10, 2024, the U.S. Department of Commerce (Commerce) initiated a countervailing duty (CVD) investigation of imports of Certain Low Speed Personal Transportation Vehicles (LSPTV) from the People's Republic of China (China).¹ On July 22, 2024, Commerce tolled certain deadlines in this administrative proceeding by seven days.² Currently, the preliminary determination is due no later than September 20, 2024.

¹ See Certain Low Speed Personal Transportation Vehicles from the People's Republic of China: Initiation of Countervailing Duty Investigation, 89 FR 57870 (July 16, 2024) (Initiation Notice).

² See Memorandum, “Tolling of Deadlines for Antidumping and Countervailing Duty Proceedings,” dated July 22, 2024.

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is American Personal Transportation Manufacturers Coalition.

On August 23, 2024, the petitioner submitted a timely request that Commerce postpone the preliminary determination in this investigation.⁴ The petitioner stated that they request postponement to extend the deadline for the preliminary determination in order to collect the necessary information for determining accurate countervailable subsidy rates.⁵

⁴ See Petitioner's Letter, “Request for Postponement of the Preliminary Determination,” dated August 23, 2024.

⁵ Id.

In accordance with 19 CFR 351.205(e), the petitioner submitted its request for postponement of the preliminary determination in this investigation 25 days or more before the scheduled date of the preliminary determination and stated the reasons for its request. For the reasons stated above, and because there are no compelling reasons to deny the request, in accordance with section 703(c)(1)(A) of the Act, Commerce is postponing the deadline for the preliminary determination to no later than 130 days after the date on which this investigation was initiated, i.e., November 25, 2024.⁶ Pursuant to section 705(a)(1) of the Act and 19 CFR 351.210(b)(1), the deadline for the final determination of this investigation will continue to be 75 days after the date of the preliminary determination.

⁶ Postponing the tolled preliminary determination deadline to 130 days after initiation would place the deadline on Sunday, November 24, 2024. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: September 3, 2024.
Ryan Majerus,
Deputy Assistant Secretary for Policy and Negotiations, performing the non-exclusive functions and duties of the Assistant Secretary for Enforcement and Compliance.

[FR Doc. 2024-20348 Filed 9-9-24; 8:45 am]

BILLING CODE 3510-DS-P